DEPARTMENT OF ENERGY

Federal Energy Regulatory Commission

[Docket No. RM01-8-000; Docket No. ER02-2001-000]

Revised Public Utility Filing Requirements; Electric Quarterly Reports; Notice of Electric Quarterly Reports Users Group Meeting

November 29, 2005.

On April 25, 2002, the Commission issued Order No. 2001,¹ a final rule which requires public utilities to file Electric Quarterly Reports. Order 2001-C, issued December 18, 2002, instructs all public utilities to file these reports using Electric Quarterly Report Submission Software. This notice announces a meeting for the EQR Users Group to be held Wednesday, December 14, 2005, via teleconference. The meeting will run from 1 p.m. to 5 p.m. e.s.t.

¹ Revised Public Utility Filing Requirements, Order No. 2001, 67 FR 31043, FERC Stats. & Regs. ¶ 31,127 (April 25, 2002); reh'g denied, Order No. 2001-A, 100 FERC ¶ 61,074, reconsideration and clarification denied, Order No. 2001-B, 100 FERC ¶ 61,342 (2002).

During the teleconference, Commission staff and EQR users will discuss the technical compliance screening process for EQR filings. The call will include a discussion of the overall process as well as a review of specific screens. A detailed agenda will be provided on http://www.ferc.gov prior to the meeting.

All interested parties are invited to call in. Documents to be discussed at the meeting will be posted on the EQR Users Group and Workshops page on FERC.gov at http://www.ferc.gov/docs-filing/eqr/groups-workshops.asp. The workshop will only be available via teleconference.

Those interested in participating are asked to do so by registering on the FERC Web site at https://www.ferc.gov/whats-new/registration/eqr-1129-form.asp. There is no registration fee.

Interested parties wishing to file comments may do so under the above-captioned Docket Numbers. Those filings will be available for review at the Commission or may be viewed on the Commission's Web site at http://www.ferc.gov, using the “eLibrary” link.

Enter the docket number excluding the last three digits in the docket number field to access the document. For assistance, contact FERC Online Support at FERCOnlineSupport@ferc.gov or via phone at (866) 208-3676 (toll-free). For TTY, contact (202) 502-8659.

For additional information, please contact Michelle Reaux of FERC's Office of Market Oversight & Investigations at (202) 502-6497 or by e-mail at eqr@ferc.gov.

Magalie R. Salas,
Secretary.

[FR Doc. E5-6941 Filed 12-6-05; 8:45 am]

BILLING CODE 6717-01-P